DEPARTMENT OF ENERGY

Federal Energy Regulatory Commission

Combined Notice of Filings #1

Take notice that the Commission received the following exempt wholesale generator filings:

Docket Numbers: EG11-114-000.

Applicants: TPW Petersburg, LLC.

Description: Self-Certification of Exempt Wholesale Generator Status of TPW Petersburg, LLC.

Filed Date: 07/26/2011.

Accession Number: 20110726-5110.

Comment Date: 5 p.m. Eastern Time on Tuesday, August 16, 2011.

Take notice that the Commission received the following electric rate filings:

Docket Numbers: ER11-3795-001.

Applicants: Interstate Power and Light Company.

Description: Interstate Power and Light Company submits tariff filing per 35.17(b): IPL & Elk Wind Energy—LBA Agreement Amendment to be effective 6/14/2011.

Filed Date: 07/26/2011.

Accession Number: 20110726-5037.

Comment Date: 5 p.m. Eastern Time on Tuesday, August 16, 2011.

Docket Numbers: ER11-3800-001.

Applicants: Interstate Power and Light Company.

Description: Interstate Power and Light Company submits tariff filing per 35.17(b): IPL & Lakefield Wind Project—LBA Agreement Amendment to be effective 6/15/2011.

Filed Date: 07/26/2011.

Accession Number: 20110726-5038.

Comment Date: 5 p.m. Eastern Time on Tuesday, August 16, 2011.

Docket Numbers: ER11-4102-001.

Applicants: Public Service Company of New Mexico.

Description: Public Service Company of New Mexico submits tariff filing per 35: OATT Section 23 Revision 2 Substitute to be effective 9/21/2011.

Filed Date: 07/26/2011.

Accession Number: 20110726-5001.

Comment Date: 5 p.m. Eastern Time on Tuesday, August 16, 2011.

Docket Numbers: ER11-4112-000.

Applicants: Southwestern Electric Power Company.

Description: Southwestern Electric Power Company submits tariff filing per 35.13(a)(2)(iii: 20110726 Rayburn PSA to be effective 12/17/2010.

Filed Date: 07/26/2011.

Accession Number: 20110726-5040.

Comment Date: 5 p.m. Eastern Time on Tuesday, August 16, 2011.

Docket Numbers: ER11-4113-000.

Applicants: Constellation NewEnergy, Inc.

Description: Constellation NewEnergy, Inc. submits tariff filing per 35.13(a)(2)(iii: Revised MBR Tariff Effective 7-27-2011 to be effective 7/27/2011.

Filed Date: 07/26/2011.

Accession Number: 20110726-5046.

Comment Date: 5 p.m. Eastern Time on Tuesday, August 16, 2011.

Docket Numbers: ER11-4114-000.

Applicants: Pacific Gas and Electric Company.

Description: Pacific Gas and Electric Company submits tariff filing per 35.13(a)(2)(iii: Modifications to Remove the RMS Agreement from LGIA, Attachment H to WD Tariff to be effective 9/30/2011.

Filed Date: 07/26/2011.

Accession Number: 20110726-5062.

Comment Date: 5 p.m. Eastern Time on Tuesday, August 16, 2011.

Docket Numbers: ER11-4115-000.

Applicants: Michigan Electric Transmission Company, LLC.

Description: Michigan Electric Transmission Company, LLC submits tariff filing per 35.13(a)(2)(iii: Notice of Succession to Transmission Agreement with County of Antrim to be effective 9/26/2011.

Filed Date: 07/26/2011.

Accession Number: 20110726-5065.

Comment Date: 5 p.m. Eastern Time on Tuesday, August 16, 2011.

Docket Numbers: ER11-4116-000.

Applicants: Michigan Electric Transmission Company, LLC.

Description: Michigan Electric Transmission Company, LLC submits tariff filing per 35.13(a)(2)(iii: Filing of Amended and Restated Facilities Agreement to be effective 9/26/2011.

Filed Date: 07/26/2011.

Accession Number: 20110726-5068.

Comment Date: 5 p.m. Eastern Time on Tuesday, August 16, 2011.

Docket Numbers: ER11-4117-000.

Applicants: Michigan Electric Transmission Company, LLC.

Description: Michigan Electric Transmission Company, LLC submits tariff filing per 35.13(a)(2)(iii: Filing of Amended and Restated Marshall Facilities Agreement to be effective 9/26/2011.

Filed Date: 07/26/2011.

Accession Number: 20110726-5077.

Comment Date: 5 p.m. Eastern Time on Tuesday, August 16, 2011.

Docket Numbers: ER11-4118-000.

Applicants: Michigan Electric Transmission Company, LLC.

Description: Michigan Electric Transmission Company, LLC submits tariff filing per 35.13(a)(1): Filing of Letter Agreement with MSCPA to be effective 9/26/2011.

Filed Date: 07/26/2011.

Accession Number: 20110726-5082.

Comment Date: 5 p.m. Eastern Time on Tuesday, August 16, 2011.

Docket Numbers: ER11-4119-000.

Applicants: Michigan Electric Transmission Company, LLC.

Description: Michigan Electric Transmission Company, LLC submits tariff filing per 35.13(a)(1): Filing of Letter Agreement with Presque Isle County to be effective 9/26/2011.

Filed Date: 07/26/2011.

Accession Number: 20110726-5085.

Comment Date: 5 p.m. Eastern Time on Tuesday, August 16, 2011.

Docket Numbers: ER11-4120-000.

Applicants: FFC Energy, LLC.

Description: FFC Energy, LLC submits tariff filing per 35.12: FFC Market Based Rate Tariff to be effective 9/30/2011.

Filed Date: 07/26/2011.

Accession Number: 20110726-5093.

Comment Date: 5 p.m. Eastern Time on Tuesday, August 16, 2011.

Docket Numbers: ER11-4121-000.

Applicants: ALLETE, Inc., Midwest Independent Transmission System Operator, Inc.

Description: ALLETE, Inc. submits tariff filing per 35.13(a)(2)(iii: Allete-Bison LGIAs to be effective 7/27/2011.

Filed Date: 07/26/2011.

Accession Number: 20110726-5129.

Comment Date: 5 p.m. Eastern Time on Tuesday, August 16, 2011.

Docket Numbers: ER11-4121-000.

Applicants: ALLETE, Inc., Midwest Independent Transmission System Operator, Inc.

Description: ALLETE, Inc. submits tariff filing per 35.13(a)(2)(iii: Allete-Bison LGIAs to be effective 7/27/2011.

Filed Date: 07/26/2011.

Accession Number: 20110726-5130.

Comment Date: 5 p.m. Eastern Time on Tuesday, August 16, 2011.

Docket Numbers: ER11-4125-000.

Applicants: Xcel Energy Services Inc., Southwestern Public Service Company.

Description: Southwestern Public Service Company's Notice of Termination of Master Commodity Purchase and Sale Agreement with Reliant Energy Service, Inc.

Filed Date: 07/27/2011.

Accession Number: 20110727-5044.

Comment Date: 5 p.m. Eastern Time on Wednesday, August 17, 2011.

Take notice that the Commission received the following land acquisition reports:

Docket Numbers: LA11-2-000.

Applicants: CinCap IV, LLC, CinCap V, LLC, Duke Energy Commercial Asset Management, Inc., Duke Energy Commercial Enterprises, Inc., Duke Midwest Operating Companies, Duke Energy Carolinas, LLC, Duke Energy Fayette II, LLC, Duke Energy Hanging Rock II, LLC, Duke Energy Indiana, Inc., Duke Energy Kentucky, Inc., Duke Energy Lee II, LLC., Duke Energy Ohio, Inc., Duke Energy Retail Sales, LLC, Duke Energy Trading and Marketing, LLC, Duke Energy Vermillion II, LLC, Duke Energy Washington II, LLC, Happy Jack Windpower, LLC, North Allegheny Wind, LLC, Silver Sage Windpower, LLC, St. Paul Cogeneration, LLC, Three Buttes Windpower, LLC, Kit Carson Windpower, LLC, Top of the World Energy, LLC.

Description: Report of Duke Energy Corporation under LA11-2.

Filed Date: 07/26/2011.

Accession Number: 20110726-5149.

Comment Date: 5 p.m. Eastern Time on Tuesday, August 16, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: July 27, 2011.
Nathaniel J. Davis, Sr.,
Deputy Secretary.

[FR Doc. 2011-19626 Filed 8-2-11; 8:45 am]

BILLING CODE 6717-01-P